DEPARTMENT OF JUSTICE

Notice of Lodging of Consent Decree Under the Comprehensive Environmental Response, Compensation, and Liability Act (CERCLA)

Notice is hereby given that on January 25, 2011, a proposed Consent Decree in The United States of America and the Coeur d'Alene Tribe v. Lookout Mountain Mining and Milling Company and Silver Bowl, Inc., Civ. No. 11-0029, was lodged with the United States District Court for the District of Idaho.

Plaintiffs the United States and the Tribe filed a complaint concurrently with the Consent Decree alleging that Defendants Lookout Mountain Mining and Milling Company and Silver Bowl, Inc. are liable pursuant to Section 107(a) of CERCLA for response costs incurred and to be incurred by the United States and for natural resources damages in connection with releases of hazardous substances at or from Operable Unit 3 of the Bunker Hill Mining and Metallurgical Complex Superfund Site (Bunker Hill Site) in northern Idaho. The proposed Consent Decree grants the Defendants a covenant not to sue for response costs, as well as natural resource damages, in connection with the Bunker Hill Site. The Coeur d'Alene Tribe is a co-trustee of injured natural resources at the Bunker Hill Site and a party to the proposed Consent Decree. The settlement is based on a determination that Defendants have no ability to pay. The settlement requires, among other things, that Defendants assign their interest in insurance policies to a trust, established for the benefit of EPA and the natural resource trustees, and pay two percent of net smelter returns generated from any future mining activities.

For thirty (30) days after the date of this publication, the Department of Justice will receive comments relating to the Consent Decree. Comments should be addressed to the Assistant Attorney General, Environment and Natural Resources Division, and either e-mailed to pubcomment-ees.enrd@usdoj.gov or mailed to P.O. Box 7611, U.S. Department of Justice, Washington, DC 20044-7611. In either case, the comments should refer to U.S., et al. v. Lookout Mountain Mining and Milling Company and Silver Bowl, Inc., Civ. No. 11-0029 and D.J. Ref. No. 90-11-3-128/11.

During the comment period, the Consent Decree may be examined on the following Department of Justice Web site: http://www.usdoj.gov/enrd/Consent_Decrees.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $18.75 (25 cents per page reproduction cost) payable to the United States Treasury or, if by e-mail or fax, forward a check in that amount to the Consent Decree Library at the stated address.

Maureen Katz,
Assistant Chief, Environmental Enforcement Section, Environment and Natural Resources Division.

[FR Doc. 2011-1979 Filed 1-28-11; 8:45 am]

BILLING CODE 4410-15-P